DEPARTMENT OF ENERGY

Federal Energy Regulatory Commission

[Project No. 1962-000]

Pacific Gas & Electric Company; Notice of Meeting

February 7, 2000.

Take notice that there will be a full group meeting of the Rock Creek-Cresta Collaborative on Tuesday, February 15, 2000, from 9:00 a.m. to 5:00 p.m. at the PG&E offices, 2740 Gateway Oaks Drive, In Sacramento, California. Expected participants need to give their names to William Zemke (PG&E) at (415) 973-1646 so that they can get through security.

For further information, please contact Elizabeth Molloy at (202) 208-0771.

David P. Boergers,
Secretary.

[FR Doc. 00-3318 Filed 2-11-00; 8:45 am]

BILLING CODE 6717-01-M